DEPARTMENT OF COMMERCE

International Trade Administration

[A-583-816]

Notice of Extension of Time Limit for Preliminary Results of Antidumping Duty Administrative Review: Certain Stainless Steel Butt-Weld Pipe Fittings from Taiwan

AGENCY: Import Administration, International Trade Administration, Department of Commerce.

EFFECTIVE DATE: February 24, 2005.

FOR FURTHER INFORMATION CONTACT: Helen Kramer or Kristin Najdi at (202) 482-0405 or (202) 482-8221, respectively; AD/CVD Operations, Office 7, Import Administration, International Trade Administration, U.S. Department of Commerce, 14th Street and Constitution Avenue, NW, Washington, DC 20230.

SUPPLEMENTARY INFORMATION:

Background

On June 1, 2004, the Department of Commerce (“the Department”) published a notice of opportunity to request an administrative review of the antidumping order on stainless steel butt-weld pipe fittings from Taiwan for the period June 1, 2003, through May 31, 2004. See Notice of Opportunity to Request Administrative Review of Antidumping or Countervailing Duty Order, Finding, or Suspended Investigation, 69 FR 30873 (June 1, 2004). On June 2, 2004, the respondent Ta Chen Stainless Steel Pipe Co., Ltd. (“Ta Chen”) requested that the Department conduct an administrative review of its sales to the United States during the period of review (“POR”). On June 22, 2004, Markovitz Enterprises, Inc. (Flowline Division), Gerlin, Inc., Shaw Alloy Piping Products, Inc., and Taylor Forge Stainless, Inc. (collectively “petitioners”) requested an antidumping duty administrative review for Ta Chen, Liang Feng Stainless Steel Fitting Co., Ltd., Tru-Flow Industrial Co., Ltd., and PFP Taiwan Co., Ltd. On July 28, 2004, the Department published the notice initiating this antidumping duty administrative review for the period June 1, 2003, through May 31, 2004. See Notice of Initiation of Antidumping and Countervailing Duty Administrative Reviews and Request for Revocation In Part, 69 FR 45010 (July 28, 2004). The preliminary results are currently due not later than March 2, 2005.

Extension of Time Limits for Preliminary Results

Pursuant to section 751(a)(3)(A) of the Tariff Act of 1930, as amended (“the Act”), and 19 CFR 351.213(h)(2), the Department may extend the deadline for completion of the preliminary results of a review if it determines that it is not practicable to complete the preliminary results within 245 days after the last day of the anniversary month of the date of publication of the order for which the administrative review was requested. The Department has determined it is not practicable to complete this review within the originally anticipated time limit, in accordance with section 751(a)(3)(A) of the Act and 19 CFR 351.213(h)(2), for the following reasons: (1) this review involves complex affiliation issues; and (2) this review involves complex constructed export price adjustments. Therefore, the Department is extending the time limits for the preliminary results by 120 days, to not later than June 30, 2005.

The deadline for the final results of this review will continue to be 120 days after publication of the preliminary results.

Dated: February 16, 2005.
Barbara E. Tillman,
Acting Deputy Assistant Secretary for Import Administration.

[FR Doc. E5-762 Filed 2-23-05; 8:45 am]

BILLING CODE: 3510-DS-S